DEPARTMENT OF TRANSPORTATION

Federal Aviation Administration

Government/Industry Aeronautical Charting Forum Meeting: Correction

AGENCY: Federal Aviation Administration (FAA), DOT.

ACTION: Notice of public meeting.

SUMMARY: This Notice is a correction to a document published by the same title on March 7, 2012 (FR Doc. 2012-5923), page 13683. In that document the SUPPLEMENTARY INFORMATION was inadvertently left out. This notice announces the bi-annual meeting of the Federal Aviation Administration (FAA) Aeronautical Charting Forum (ACF) to discuss informational content and design of aeronautical charts and related products, as well as instrument flight procedures development policy and design criteria.

DATES: The ACF is separated into two distinct groups. The Instrument Procedures Group (IPG) will meet April 24, 2012 from 8:30 a.m. to 5 p.m. The Charting Group will meet April 25 and 26, 2012 from 8:30 a.m. to 5 p.m.

ADDRESSES: The meeting will be hosted by Innovative Solutions International, a Pragmatics, Inc. Company at 1761 Business Center Drive, Reston, VA 20190.

FOR FURTHER INFORMATION CONTACT: For information relating to the Instrument Procedures Group, contact Thomas E. Schneider, FAA, Flight Procedures Standards Branch, AFS-420, 6500 South MacArthur Blvd., P.O. Box 25082, Oklahoma City, OK 73125; telephone (405) 954-5852; fax: (405) 954-2528.

For information relating to the Charting Group, contact Valerie S. Watson, FAA, National Aeronautical Navigation Products (AeroNav Products), Quality Assurance & Regulatory Support, AJV-3B, 1305 East-West Highway, SSMC4, Station 4640, Silver Spring, MD 20910; telephone: (301) 427-5155, fax: (301) 427-5412.

SUPPLEMENTARY INFORMATION: Pursuant to § 10(a)(2) of the Federal Advisory Committee Act (Pub. L. 92-463; 5 U.S.C. App. II), notice is hereby given of a meeting of the FAA Aeronautical Charting Forum to be held from April 24 through April 26, 2012, from 8:30 a.m. to 5 p.m. at Innovative Solutions International (ISI), a Pragmatics Inc. Company, at their offices at 1761 Business Center Drive, Reston, VA 20190.

The Instrument Procedures Group agenda will include briefings and discussions on recommendations regarding pilot procedures for instrument flight, as well as criteria, design, and developmental policy for instrument approach and departure procedures.

The Charting Group agenda will include briefings and discussions on recommendations regarding aeronautical charting specifications, flight information products, and new aeronautical charting and air traffic control initiatives. Attendance is open to the interested public, but will be limited to the space available.

Please note the following special security requirements for access to the Pragmatics, Inc. Corporation Headquarters. A picture I.D. is required of all US citizens. All foreign national participants are required to have a passport. Additionally, not later than April 10, 2012, foreign national attendees must provide their name, country of citizenship, company/organization representing, and country of the company/organization. Send the information to: John Banks, Innovative Solutions International, FAA, Flight Procedures Standards Branch, AFS-420, 6500 South MacArthur Blvd., P.O. Box 25082, Oklahoma City, OK, or via Email (preferred) to: john.ctr.banks@faa.gov. Foreign nationals who do not provide the required information will not be allowed entrance—NO EXCEPTIONS.

The public must make arrangements by April 6, 2012, to present oral statements at the meeting. The public may present written statements and/or new agenda items to the committee by providing a copy to the person listed in the FOR FURTHER INFORMATION section not later than April 6, 2012. Public statements will only be considered if time permits.

Issued in Washington, DC, on March 19, 2012.
Valerie S. Watson,
Co-Chair, Aeronautical Charting Forum.

[FR Doc. 2012-7058 Filed 3-22-12; 8:45 am]

BILLING CODE 4910-13-P